DEPARTMENT OF THE INTERIOR

Fish and Wildlife Service

Notice of Availability of a Technical/Agency Draft Implementation Schedule for the South Florida Multi-Species Recovery Plan

AGENCY: Fish and Wildlife Service, Interior.

ACTION: Notice of document availability and public comment period.

SUMMARY: The U.S. Fish and Wildlife Service (“we,” “our,” or “Service”) announces the availability of the implementation schedule for the South Florida Multi-Species Recovery Plan (MSRP) for public review. The MSRP, as approved in 1999, included a discussion of the need for a coordinated effort to develop an implementation schedule. This implementation schedule was prepared with the assistance of the South Florida Multi-species/Ecosystem Recovery Implementation Team (MERIT). The implementation schedule prioritizes the recovery tasks as described in the MSRP on a community level, and identifies the associated participating parties, time frame, and costs necessary to accomplish those tasks. We are asking for the public's review and comment on the recovery plan implementation schedule.

DATES: Comments on the draft implementation schedule must be received on or before June 1, 2004 to ensure consideration by the Service.

ADDRESSES: Copies of the draft implementation schedule can be obtained by contacting the U.S. Fish and Wildlife Service, South Florida Ecological Services Office, 1339 20th Street, Vero Beach, Florida 32960. We encourage requests for the CD-ROM version of the implementation schedule, as the hard (paper) copies encompasses approximately 221 pages. Written comments and materials regarding the implementation schedule should be addressed to Cindy Schulz at the address above. Comments and materials received are available on request for public inspection, by appointment, during normal business hours at the South Florida Ecological Services Office.

FOR FURTHER INFORMATION CONTACT: Cindy Schulz at the South Florida Ecological Services Office, (772) 562-3909, ext. 305.

SUPPLEMENTARY INFORMATION:

Public Comments Solicited

We are asking for written comments on the MSRP implementation schedule as described above. All comments received by the date identified above will be considered. We particularly seek comments concerning: (1) Recommended changes to the Priority Number for recovery tasks; (2) recommendations for additions or deletions to the participants identified for each recovery task; and (3) additional information to assist us with determining costs for accomplishing recovery tasks.

Please note that these recovery tasks are taken directly from the MSRP. Any changes needed to update the language of the tasks themselves would be addressed in a future revision of the MSRP rather than at this time. These changes, if any, would be subject to public comment only during such future revision.

We will take into account all comments and any additional information we receive. Such communications may lead to a final version of this implementation schedule that differs from this Technical/Agency draft.

Background

Restoring endangered or threatened animals and plants to the point where they are again secure, self-sustaining components of their ecosystems is a primary goal of our threatened and endangered species program. To help guide the recovery effort, we prepare recovery plans for listed species native to the United States, pursuant to section 4(f) of the Endangered Species Act of 1973 (Act), as amended (16 U.S.C. et seq.), which requires the development of recovery plans for listed species unless such a plan would not promote the conservation of a particular species. Recovery plans describe actions that may be necessary for conservation of these species, establish criteria for reclassification from endangered to threatened status or removal from the list, and estimate the time and cost for implementing the needed recovery measures.

Section 4(f) of the Act also requires that a public notice and an opportunity for public review and comment be provided during recovery plan development. Accordingly, the MSRP was made available for public review and comment, before its approval in May 1999. The MSRP identifies the recovery needs of the 68 threatened and endangered species and 23 natural communities in the South Florida ecosystem, which encompasses 67,346 square kilometers (26,002 square miles), covering the 19 southernmost counties in Florida.

The final chapter of the MSRP describes the process for developing an implementation schedule. This process involved the collaborative effort of a team appointed by the Service to focus specifically on recovery implementation efforts. This team, known as MERIT, is comprised of 36 members representing Federal, State and local government agencies; Tribal governments; academia; industry; and the private sector. MERIT members assisted in assigning priorities to recovery tasks, and estimating the expected duration and cost to complete each task. They also identified the organizations or agencies that would likely be involved in accomplishing each task.

The implementation schedule for the MSRP contains recovery tasks for those species that occur only in South Florida, and for which the South Florida Ecological Services Office has recovery lead. Other Service field offices have recovery responsibility for those species that occur in South Florida but also occur elsewhere. Implementation schedules for those species can be found in the approved individual recovery plans for those species. Recovery tasks are provided in this implementation schedule for the following species:

Status/species | Scientific name
Mammals:
E Key deer | Odocoileus virginianus clavium
E Key Largo cotton mouse | Peromyscus gossypinus allapaticola
E Key Largo woodrat | Neotoma floridana smalli
E Silver rice rat | Oryzomys palustris natator (= O. argentatus)
E Lower Keys marsh rabbit | Sylvilagus palustris hefneri
Birds:
T Audubon's crested caracara | Polyborus plancus audubonii
E Cape Sable seaside sparrow | Ammodramus (= Ammospiza) maritimus mirabilis
E Snail kite | Rostrhamus sociabilis plumbeus
E Florida grasshopper sparrow | Ammodramus savannarum floridanus
Reptiles:
E American crocodile | Crocodylus acutus
T Bluetail (blue-tailed) mole skink | Eumeces egregius lividus
T Sand skink | Neoseps reynoldsi
Invertebrates:
E Schaus swallowtail butterfly | Heraclides (= Papilio) aristodemus ponceanus
T Stock Island tree snail | Orthalicus reses
Plants:
E Avon Park harebells | Crotalaria avonensis
E Beach jacquemontia | Jacquemontia reclinata
E Beautiful pawpaw | Deeringothamnus pulchellus
E Carter's mustard | Warea carteri
E Crenulate lead-plant | Amorpha crenulata
E Deltoid spurge | Chamaesyce (= Euphorbia) deltoidea
E Florida perforate cladonia | Cladonia perforata
E Florida ziziphus | Ziziphus celata
E Four-petal pawpaw | Asimina tetramera
E Fragrant prickly-apple | Cereus eriophorus var. fragrans
T Garber's spurge | Chamaesyce (= Euphorbia) garberi
E Garrett's mint | Dicerandra christmanii
E Highlands scrub hypericum | Hypericum cumulicola
E Key tree-cactus | Pilosocereus (= Cereus) robinii
E Lakela's mint | Dicerandra immaculata
E Lewton's polygala | Polygala lewtonii
E Okeechobee gourd | Cucurbita okeechobeensis ssp. okeechobeensis
T Papery whitlow-wort | Paronychia chartacea (= Nyachia pulvinata)
T Pigeon wings | Clitoria fragrans
E Pygmy fringe-tree | Chionanthus pygmaeus
E Sandlace | Polygonella myriophylla
E Scrub blazing star | Liatris ohlingerae
E Scrub mint | Dicerandra frutescens
E Short-leaved rosemary | Conradina brevifolia
E Small's milkpea | Galactia smallii
E Snakeroot | Eryngium cuneifolium
E Tiny polygala | Polygala smallii
E Wireweed | Polygonella basiramia (= ciliata var. b.)

We will consider all information presented during this 60-day public comment period prior to approval of this implementation schedule.

See ADDRESSES section above to request copies of the draft implementation schedule. Note that paper copies of both the MSRP and the draft implementation schedule are available for public inspection at the following locations:

U.S. Fish and Wildlife Service South Florida Ecological Services Office, 1339 20th Street, Vero Beach, Florida 32960, (772) 562-3909;

U.S. Fish and Wildlife Service, Merritt Island National Wildlife Refuge, 4 miles east of Titusville, State Road 402, Titusville, Florida 32782, (321) 861-0667;

U.S. Fish and Wildlife Service, J.N. “Ding” Darling National Wildlife Refuge, 1 Wildlife Drive, Sanibel, Florida 33957, (239) 472-1100;

U.S. Fish and Wildlife Service, Florida Panther National Wildlife Refuge, 3860 Tollgate Boulevard, Suite 300, Naples, Florida 34114, (239) 353-8442;

U.S. Fish and Wildlife Service, National Key Deer Refuge, Winn Dixie Shopping Plaza, Big Pine Key, Florida 33043-1510, (305) 872-2239;

U.S. Fish and Wildlife Service, Loxahatchee National Wildlife Refuge, 10216 Lee Road, Boynton Beach, Florida 33437-4796, (561) 732-3684.

Authority

The authority for this action is section 4(f) of the Endangered Species Act, 16 U.S.C. 1533(f).

Dated: February 24, 2004.
J. Mitch King,
Acting Regional Director.

[FR Doc. 04-7480 Filed 4-1-04; 8:45 am]

BILLING CODE 4310-55-P